DEPARTMENT OF COMMERCE

International Trade Administration

[A-588-852]

Initiation of New Shipper Antidumping Duty Review: Structural Steel Beams From Japan

AGENCY: Import Administration, International Trade Administration, Department of Commerce.

ACTION: Notice of initiation of new shipper antidumping duty review on structural steel beams from Japan.

SUMMARY: On December 27, 2000, the Department of Commerce (“the Department”) received a request to conduct a new shipper review of the antidumping duty order on structural steel beams from Japan. We are initiating this new shipper review in accordance with section 751(a)(2)(B) of the Tariff Act of 1930, as amended, and 19 CFR 351.214(d).

EFFECTIVE DATE: February 16, 2001.

FOR FURTHER INFORMATION CONTACT: Juanita H. Chen or Robert Bolling, Import Administration, International Trade Administration, U.S. Department of Commerce, 1401 Constitution Avenue, NW., Washington, DC 20230; telephone 202-482-0409 and 202-482-3434, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act. In addition, unless otherwise indicated, all citations to the Department's regulations are to the regulations at 19 CFR part 351 (2000).

Background

On April 25, 2000, the Department published its final determination in the less than fair value investigation on structural steel beams from Japan. See Structural Steel Beams from Japan, 65 FR 24182 (April 25, 2000) (final determination). On June 19, 2000, the Department published its antidumping duty order on structural steel beams from Japan. See Structural Steel Beams from Japan, 65 FR 37960 (June 19, 2000) (order). Accordingly, the anniversary month is June. On December 27, 2000, Yamato Kogyo Co., Ltd. (“Yamato Kogyo”) requested a new shipper review of the antidumping duty order on structural steel beams from Japan, covering Yamato Kogyo's U.S. sales of structural steel beams.

Period of Review

The period of review (“POR”) is June 1, 2000 through November 30, 2000.

Initiation of Review

In accordance with 19 CFR 351.214(b)(2), Yamato Kogyo certified that: (1) it did not export subject merchandise to the United States during the period of investigation (“POI”) (July 1, 1998 through June 30, 1999); and (2) since the initiation of the investigation, it has never been affiliated with any exporter or producer who exported the subject merchandise to the United States during the POI, including those exporters or producers not individually examined during the investigation. Yamato Kogyo also submitted documentation establishing the following: (1) The date on which it first shipped subject merchandise for export to the United States; (2) the volume of that shipment; and (3) the date of the first sale to an unaffiliated customer in the United States.

As Yamato Kogyo meets the eligibility requirements for a new shipper review, we are initiating a new shipper review of the antidumping duty order on structural steel beams from Japan, in accordance with section 751(a)(2)(B)(ii) of the Act and 19 CFR 351.214(d)(1), with respect to Yamato Kogyo. In accordance with 19 CFR 351.214(i)(1), we intend to issue the preliminary results of this review no later than 180 days after the day on which this new shipper review is initiated.

Concurrent with publication of this notice, and in accordance with 19 CFR 351.214(e), we will instruct the U.S. Customs Service to allow, at the option of the importer, the posting of a bond or security in lieu of a cash deposit for each entry of the merchandise exported by Yamato Kogyo until the completion of this new shipper review.

The interested parties must submit applications for disclosure under administrative protective order in accordance with 19 CFR 351.305 and 351.306.

This initiation notice is published in accordance with section 751(a)(2)(B)(ii) of the Act and 19 CFR 351.214 and 351.221(c)(1)(i).

Dated: January 31, 2001.
Joseph A. Spetrini,
Deputy Assistant Secretary for Enforcement Group III.

[FR Doc. 01-4020 Filed 2-15-01; 8:45 am]

BILLING CODE 3510-DS-P